DEPARTMENT OF DEFENSE

Department of the Navy

Notice of Availability of Government-Owned Inventions; Available for Licensing

AGENCY: Department of the Navy, DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil, 812-854-2777.

SUPPLEMENTARY INFORMATION: The following patents are available for licensing: Patent No. 10,279,519 (Navy Case No. 103209): MOLD ASSEMBLY AND METHOD OF MOLDING A COMPONENT//Patent No. 10,288,497 (Navy Case No. 200266): APPARATUS FOR DESTRUCTIVE EVENT TESTING OF CHEMICAL ENERGY SYSTEMS USING ADAPTIVE HEAT FLOW TESTING SYSTEMS AND RELATED METHODS//Patent No. 10,288,572 (Navy Case No. 200397): APPARATUS FOR DESTRUCTIVE EVENT TESTING OF CHEMICAL ENERGY SYSTEMS USING HIGHLY PORTABLE AND EASE OF ACCESS ADAPTIVE HEAT FLOW TESTING SYSTEMS INCLUDING REPLACEABLE AND THERMALLY ISOLATED MODULAR THERMAL SECTIONS EACH CAPABLE OF INDEPENDENT MEASUREMENT OF A TEST ARTICLE WITH IMPROVED EASE OF TEST ARTICLE INSERTION AND REMOVAL AND RELATED METHODS//and Patent No. 10,305,241 (Navy Case No. 200413): METHOD OF MANUFACTURING A HAND TOOL FOR COUPLING TOGETHER FIRST AND SECOND CABLE SECTIONS.

Authority: 35 U.S.C. 207, 37 CFR part 404.

Dated: June 6, 2019.
M.S. Werner,
Commander, Judge Advocate General's Corps, U.S. Navy, Federal Register Liaison Officer.

[FR Doc. 2019-12265 Filed 6-10-19; 8:45 am]

BILLING CODE 3810-FF-P